DEPARTMENT OF TRANSPORTATION

Federal Aviation Administration

Notice of Availability of Draft Air Tour Management Plan and Draft Environmental Assessment and Public Meeting

AGENCY: Federal Aviation Administration (FAA), Transportation.

ACTION: Notice of Availability of Draft Air Tour Management Plan (ATMP) and Draft Environmental Assessment (EA) and public meeting.

SUMMARY: The FAA, in cooperation with the National Park Service (NPS), has initiated development of an ATMP for Canyon de Chelly National Monument (the Park) pursuant to the National Parks Air Tour Management Act of 2000 and its implementing regulations. This notice announces the public availability of the Draft ATMP and Draft EA for comment and the date of the public meeting for the Park in accordance with National Parks Air Tour Management Act of 2000 and National Environmental Policy Act (NEPA) of 1969. The purpose of the public meeting is to review the Draft ATMP with the public. The objective of the ATMP is to develop acceptable and effective measures to mitigate or prevent the significant adverse impacts, if any, of commercial air tour operations on the Park's resources and values.

DATES:

Comment Period

Comments must be received by 11:59 MDT on or before May 3, 2024. Comments will be received on the NPS Planning, Environment and Public Comment System (PEPC) website. The Park's website link is https://parkplanning.nps.gov/projectHome.cfm?projectID=103419.

Before including your address, phone number, email address, or other personal identifying information in your comment, be advised that your entire comment—including your personal identifying information—may be made publicly available at any time. While you can ask in your comment to withhold from public review your personal identifying information, we cannot guarantee that we will be able to do so.

Public Meeting

The public meeting will be offered in-person and virtually at the dates and times listed below. Both meetings will convey the same information. Questions will be accepted during the virtual public meeting through a separate form. The link for the question form is provided in the ADDRESSES section. Questions asked during the in-person or submitted for the virtual public meeting are not considered an official comment as part of the public comment period. Attendees are encouraged to submit their comments for the official record via the link provided in this notice.

• In-person public meeting: Tuesday, April 16, 2024, from 10 a.m.-2 p.m. MDT

• Virtual public meeting: Wednesday, April 17, 2024, from 6 p.m.-7:30 p.m. MDT

ADDRESSES: The meeting will be offered in-person and virtually at the following locations:

Tuesday, April 16, 2024, from 10 a.m.-2 p.m. MDT

• Navajo Route 7, Ste. 4600, Chinle, AZ 86503

• Phone: (928) 674-2052

Wednesday, April 17, 2024, from 6 p.m.-7:30 p.m. MDT

• Meeting Livestream: https://www.youtube.com/watch?v=LJdKCdtPw4g

• Submit questions for the meeting: https://forms.gle/6PCcyzMQrziCyLA46

The meeting information will also be available at Air Tour Management Plan | Federal Aviation Administration (faa.gov) and on the NPS PEPC website for the Park listed above.

Contact: Any request for reasonable accommodation related to providing public comments on the Draft ATMP or Draft EA should be sent to the person listed on the Park's PEPC sites.

The U.S. Department of Transportation and U.S. Department of the Interior are committed to providing equal access to the meetings for all participants. If you need alternative formats or services because of a disability, such as sign language, interpretation, or other ancillary aids, please contact the person listed in the FOR FURTHER INFORMATION CONTACT section.

FOR FURTHER INFORMATION CONTACT: Sandra Fox, (202) 267-0928, sandra.y.fox@faa.gov.

SUPPLEMENTARY INFORMATION: The FAA is issuing this notice pursuant to the National Parks Air Tour Management Act of 2000 (Pub. L. 106-181) and its implementing regulations contained in title 14, Code of Federal Regulations (CFR) part 136, subpart B, National Parks Air Tour Management and the National Environmental Policy Act (NEPA) of 1969 and the Council of Environmental Quality NEPA Implementing Regulations (40 CFR parts 100-1508). The objective of this ATMP is to develop acceptable and effective measures to mitigate or prevent the significant adverse impacts, if any, of commercial air tour operations on the Park's resources and values. The FAA and the NPS are inviting comment from the public, Federal and state agencies, tribes, and other interested parties on the Draft ATMP and Draft EA for Canyon de Chelly National Monument.

The FAA and the NPS request that comments be as specific as possible in response to the Draft ATMP and Draft EA. All written comments become part of the official record. Written comments on the Draft ATMP and Draft EA can be submitted via PEPC or sent to the mailing address provided on the Park's PEPC site. Comments will not be accepted by fax or email.

The FAA and the NPS have determined that the ATMP constitutes a Federal undertaking subject to compliance with Section 106 of the National Historic Preservation Act and its implementing regulations (36 CFR part 800). The FAA and the NPS have consulted with tribes, State and Tribal Historic Preservation Officers, and other interested parties to identify historic properties and assess the potential effects of the ATMP on them.

The meetings will be open to the public. Members of the public who wish to participate can access the meetings in-person or virtually with the information provided in this notice.

Issued in Washington, DC, on March 29, 2024.
Sandra Fox,
Environmental Protection Specialist, FAA Office of Environment & Energy.

[FR Doc. 2024-07036 Filed 4-2-24; 8:45 am]

BILLING CODE 4910-13-P